DEPARTMENT OF THE INTERIOR

Fish and Wildlife Service

[FWS-R6-R-2008-N0268; 61411-0000-1115-F4]

Proposed Candidate Conservation Agreement With Assurances for the Black-Tailed Prairie Dog, Mountain Plover, Burrowing Owl, and Ferruginous Hawk for the 4W Ranch in Niobrara and Weston Counties, WY

AGENCY: Fish and Wildlife Service, Interior.

ACTION: Notice of availability; receipt of application.

SUMMARY: This notice advises the public that the 4W Ranch, FLP (Applicant) has applied to the U.S. Fish and Wildlife Service (Service) for an enhancement of survival permit (permit) pursuant to section 10(a)(1)(A) of the Endangered Species Act of 1973, as amended (Act). This permit application includes a Candidate Conservation Agreement with Assurances (Agreement) between the Applicant and the Service. The Service requests information, views, and opinions from the public via this notice. Further, the Service is soliciting information regarding the adequacy of the Agreement as measured against the Service's Candidate Conservation Agreement with Assurances policy and the regulations that implement it.

DATES: Written comments on the permit application must be received on or before November 19, 2008.

ADDRESSES: Persons wishing to review the Agreement and permit application may obtain copies by writing to the Wyoming Ecological Services Field Office, U.S. Fish and Wildlife Service, 5353 Yellowstone Road, Suite 308A, Cheyenne, Wyoming 82001. Documents also will be available for public inspection during normal business hours at this office. Documents also may be viewed on the following Web site: http://www.fws.gov/mountain-prairie/es/wyoming/index.htm. Written data or comments concerning the Agreement or permit application should be addressed to Brian T. Kelly, Field Supervisor, at the above address, to be adequately considered in the Service's decision-making process. Written comments also may be sent by facsimile to (307) 772-2358. Please reference permit number TE184530 in your comments, or in the request of the documents discussed herein.

FOR FURTHER INFORMATION CONTACT: Brian T. Kelly, Field Supervisor, Wyoming Ecological Services Field Office, at the above address; telephone (307) 772-2374. People who use a telecommunications device for the deaf (TDD) may call the Federal Information Relay Service at (800) 877-8339.

SUPPLEMENTARY INFORMATION:

Background

Under a Candidate Conservation Agreement with Assurances, participating landowners voluntarily undertake management activities on their property to enhance, restore, or maintain habitat benefiting species that are proposed for listing under the Act, candidates for listing, or may become candidates. Candidate Conservation Agreements with Assurances, and the subsequent permits that are issued pursuant to section 10(a)(1)(A) of the Act (16 U.S.C. 1531 et seq.), encourage private and other non-Federal property owners to implement conservation efforts for species by assuring property owners that they will not be subjected to increased land use restrictions as a result of efforts to attract or increase the numbers or distribution of a listed species on their property, if that species becomes listed under the Act in the future. Application requirements and issuance criteria for permits through the Candidate Conservation Agreement with Assurances are found in 50 CFR 17.22(d) and 17.32(d).

We have worked with the Applicant to develop this proposed Agreement for the conservation of the black-tailed prairie dog (Cynomys ludovicianus), mountain plover (Charadrius montanus), burrowing owl (Athene cunicularia), and ferruginous hawk (Buteo regalis) (covered species) on the 4W Ranch, which lies in Niobrara and Weston Counties, Wyoming. Within the 29,000 acres of 4W Ranch owned or leased lands, the landowners have identified 3,370 acres of their privately owned property on which habitat for the covered species will be restored, enhanced, and managed pursuant to the Agreement. The proposed duration of the Agreement and permit is 10 years. The Agreement fully describes the proposed management activities to be undertaken by the Applicant and the conservation benefits expected to be gained for the covered species. We have made a preliminary determination that the Agreement qualifies as a low-effect plan, since it has minor to negligible effects on federally listed, proposed or candidate species and their habitats, and qualifies for a categorical exclusion under the National Environmental Policy Act (NEPA).

Upon approval of this Agreement, and consistent with the Service's Candidate Conservation Agreement with Assurances' policy published in the Federal Register on June 17, 1999 (64 FR 32726), the Service would issue a permit to the applicant authorizing take of the covered species by the Applicant associated with the implementation of the management activities specified in the Agreement. To benefit the covered species, the Applicant agrees to undertake site-specific management activities, which are specified in their Agreement.

The black-tailed prairie dog is considered a keystone species, because the effects of its foraging and burrowing behaviors maintain habitat features important to a variety of other species and it serves as a food source for predators. Prairie dog activities result in mixing subsoil with topsoil, which redistributes nutrients and increases water infiltration rates. The resulting soil and moisture conditions consequently increase plant diversity, which in turns attracts a variety of animals to prairie dog colonies. However, prairie dogs can also have significant adverse effects on vegetation communities in localized areas in and near their colonies. Prairie dogs can denude areas of vegetation under prolonged drought and heat conditions. As a result, prairie dogs have often been viewed by landowners as directly competing with livestock for forage resources.

The black-tailed prairie dog was eliminated from much of its historic range as a result of control efforts by both public and private landowners. Control efforts no longer appear to be significantly reducing the range-wide distribution of the species, but continued control efforts by some landowners can have localized effects to prairie dog populations. Due to the perceived conflict of prairie dogs with other land uses, landowners are more inclined to maintain or increase habitat as viable and productive for prairie dog, if doing so can be balanced with other land uses. Because most of the black-tailed prairie dog habitat in the eastern range occurs on private lands, private landowners willing to manage for suitable habitat can play an important role in the long-term conservation of the black-tailed prairie dog. Accordingly, the 4W Ranch agrees to undertake management activities to enhance habitat and protect the ranch's populations of black-tailed prairie dogs, mountain plovers, burrowing owls, and ferruginous hawks. However, the willingness for participation by the property owner depends on the ability to manage these species to allow maintenance of the ranch's economic viability and protection of high-value forage areas for livestock.

Management activities described in the Agreement provide for the restoration, enhancement, and management of native habitats of the covered species on 3,370 acres of the 4W Ranch. The objective of such activities is to enhance populations of the covered species by increasing the amount and quality of suitable habitat on the enrolled properties. Management of black-tailed prairie dogs, outlined in the Agreement, will focus on maintaining colonies within a 3,000-acre core management area. Conservation measures to be implemented by the 4W Ranch under the Agreement include control of prickly pear cactus, range soil aeration, reseeding grasses, and livestock grazing rotation. These measures also would benefit the other covered species, which depend on the prairie dog for suitable habitat and prey. The implementation of these measures, as well as some routine ranching activities, may result in the incidental take of the covered species. Such take would be authorized by the issuance to the property owner of a section 10(a)(1)(A) permit under the authority of 50 CFR 17.22(d) for species federally listed as endangered or 50 CFR 17.32 (d) for species federally listed as threatened.

An incentive for long-term conservation of the black-tailed prairie dog on the 4W Ranch is the assurance that the property owner will be able to maintain economic viability of the ranch by preventing encroachment of prairie dogs onto important ranch production areas (e.g., hay meadows). The property owner would be authorized to use primarily regulated recreational shooting and other measures as necessary to control prairie dogs when populations on the 4W Ranch are above established thresholds. Such regulated take would be authorized by the section 10(a)(1)(A) permit issued to the property owner under the authority of 50 CFR 17.22(a) for species federally listed as endangered or 50 CFR 17.32 (a) for species federally listed as threatened.

A single section 10(a)(1)(A) permit would be issued with separate authorizations, as cited above, for the incidental take of the covered species and for the intentional take of the black-tailed prairie dog. The permit also would contain separate sets of special terms and conditions for each of the two types of take. The permit would become effective upon Federal listing of any of the covered species.

Annual monitoring, required by the Agreement, will be conducted to determine active burrow densities, which can be used as an index of population levels. Recreational shooting will not occur unless monitoring indicates the population threshold has been exceeded. For example, when plague epizootics have reduced the population below established thresholds, all recreational shooting will be suspended, pending the recovery of the population back to threshold levels. Additionally, ongoing monitoring and adaptive management will allow adjustment of management goals and thresholds should new information indicate populations are decreasing or increasing outside the threshold parameters.

Baseline population and habitat conditions for the covered species are described in the Agreement. Annual monitoring is a key component of the Agreement and is one of the requirements for receiving assurances that no further measures would be required of the property owner and that take of any of the covered species, if federally listed, under the permit would continue to be authorized. Adaptive management provides the plan flexibility, if monitoring indicates changes in management are necessary (e.g., threshold levels need to be raised to meet the conservation goals, as fully described in the Agreement).

Public Review and Comments

The Service has made a preliminary determination that the proposed Agreement and permit issuance are eligible for categorical exclusion under NEPA. We explain the basis for this determination in an Environmental Action Statement, which also is available for public review at the office listed in the ADDRESSES section above.

If you wish to comment on the permit application or the Agreement, you may submit your comments to the address listed in the ADDRESSES section of this document. Before including your address, phone number, e-mail address, or other personal identifying information in your comment, you should be aware that your entire comment—including your personal identifying information—may be made publicly available at any time. While you can ask us in your comment to withhold your personal identifying information from public review, we cannot guarantee that we will be able to do so.

We will evaluate this permit application, associated documents, and comments submitted thereon to determine whether the permit application meets the requirements of section 10(a) of the Act and NEPA regulations at 40 CFR 1506.6. If we determine that the requirements are met, we will sign the proposed Agreement and issue a permit under section 10(a)(1)(A) of the Act to the Applicants for take of the covered species in accordance with the terms of the Agreement. We will not make our final decision until after the end of the 30-day comment period and will fully consider all comments received during the comment period.

The Service provides this notice under section 10(c) of the Act and implementing regulations for NEPA (40 CFR 1506.6).

Dated: May 20, 2008.
Scott Hicks,
Deputy Field Supervisor, Cheyenne, Wyoming.

[FR Doc. E8-24884 Filed 10-17-08; 8:45 am]

BILLING CODE 4310-55-P